DEPARTMENT OF COMMERCE

National Institute of Standards and Technology

Proposed Information Collection; Comment Request; Surveys To Support the Inadequate Interoperability Cost Analysis of the U.S. Capital Facilities Industry

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before August 15, 2003.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information or copies of the information collection instrument(s) should be directed to the attention of Phyllis Boyd, National Institute of Standards and Technology, 100 Bureau Drive, Stop 3220, Gaithersburg, MD, 20899-32210, (301) 975-4062. In addition, written comments may be sent via e-mail to phyllis.boyd@nist.gov.

SUPPLEMENTARY INFORMATION

I. Abstract

In accordance with Executive Order 12862, the National Institute of Standards and Technology (NIST), a nonregulatory agency of the Department of Commerce, proposes to conduct a number of surveys of the U.S. capital facilities industry, a sector of the U.S. construction and facilities management industry. The surveys, to be administered to capital facilities architects, general contractors, engineers, suppliers, software developers, and owner-operators, will be designed to gather quantitative data. This data will be used to calculate the efficiency loss, in dollars, of inadequate electronic interoperability in the capital facilities supply chain and in capital facilities life cycle management. Each aforementioned stakeholder group will be administered a unique survey tailored to their activities in the design, construction, and operation of capital facilities. The surveys will collect data on respondents' capital facilities projects, business processes involving the exchange of electronic and paper-based communication, information technology investments, and the amount of labor involved in managing information flows internally and externally. Respondents will also be offered the opportunity to freely comment on the extent to which interoperability issues impact their businesses and operations. The surveys will be voluntary and confidential. At no time will the data collected be disclosed to any third parties.

II. Method of Collection

NIST will collect this information through an Internet survey housed on a Web site using 128-bit encryption. Respondents will create their own unique user IDs and passwords. If respondents indicate that they are available for further comment or for clarifying responses, they may be contacted via telephone or e-mail.

III. Data

OMB Number: None.

Form Numbers: None.

Type of Review: Regular Submission.

Affected Public: Individuals or households; business or for-profit organizations.

Estimated Number of Respondents: 225.

Estimated Time Per Response: 30 minutes.

Estimated Total Annual Respondent Burden Hours: 113.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 10, 2003.
Gwellnar Banks,
Management Analyst, Office of the Chief Information Officer.

[FR Doc. 03-15073 Filed 6-13-03; 8:45 am]

BILLING CODE 3510-CN-P